DEPARTMENT OF DEFENSE

Office of the Secretary

[Transmittal Nos. 12-09]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-09 with attached transmittal, and policy justification.

Dated: May 29, 2012.
Aaron Siegel,
Alternate OSD Federal Register Liaison Officer, Department of Defense.

Transmittal No. 12-09

Notice of Proposed Issuance of Letter of Offer Pursuant to Section 36(b)(1) of the Arms Export Control Act, as Amended

(i) Prospective Purchaser: Bangladesh

(ii) Total Estimated Value:

Major Defense Equipment * | $ 0 million.
Other | 180 million.
Total | 180 million.
* as defined in Section 47(6) of the Arms Export Control Act.

(iii) Description and Quantity or Quantities of Articles or Services under Consideration for Purchase: provides the regeneration, overhaul, modifications, and logistics support of 4 Lockheed Martin C-130E United States Air Force (USAF) baseline aircraft and 20 T56AA Rolls-Royce engines being provided as grant Excess Defense Articles (EDA). Also included are transportation, aircraft ferry support, repair and return, spare and repair parts, support equipment, tools and test equipment, technical data and publications, personnel training and training equipment, U.S. Government and contractor engineering, technical, and logistics support services, and other related elements of logistics support.

(iv) Military Department: Air Force (SAO)

(v) Prior Related Cases, if any: None

(vi) Sales Commission, Fee, etc., Paid, Offered, or Agreed to be Paid: None

(vii) Sensitivity of Technology Contained in the Defense Article or Defense Services Proposed to be Sold: None

(viii) Date Report Delivered to Congress: 22 May 2012

Policy Justification

Bangladesh—C-130E Aircraft

The Government of Bangladesh has requested a possible sale to provide the regeneration, overhaul, modifications, and logistics support of 4 Lockheed Martin C-130E United States Air Force (USAF) baseline aircraft and 20 T56AA Rolls-Royce engines being provided as grant Excess Defense Articles (EDA). Also included are transportation, aircraft ferry support, repair and return, spare and repair parts, support equipment, tools and test equipment, technical data and publications, personnel training and training equipment, U.S. Government and contractor engineering, technical, and logistics support services, and other related elements of logistics support. The estimated cost is $180 million.

The proposed sale will contribute to the foreign policy and national security of the United States by enabling the Bangladesh Air Force (BAF) to use its C-130 fleet to respond more capably to humanitarian assistance and disaster relief needs in the region and support Bangladesh's significant contributions to United Nations Peacekeeping Operations, and support operations to counter violent extremist organizations. It will also improve the commonality and interoperability of the BAF and the U.S. Air Force.

The proposed sale of support will help to modernize the BAF's aging cargo aircraft fleet. The C-130E will provide Bangladesh with an improved capability for the movement of cargo and personnel in humanitarian missions.

The proposed sale of this equipment and support will not alter the basic military balance in the region.

The prime contractor will be determined via competitive bid. There are no known offset agreements proposed in connection with this potential sale

Implementation of this proposed sale will not require the assignment of any additional U.S. Government or contractor representatives to Bangladesh.

There will be no adverse impact on U.S. defense readiness as a result of this proposed sale.

[FR Doc. 2012-13292 Filed 5-31-12; 8:45 am]

BILLING CODE 5001-06-P